DEPARTMENT OF TRANSPORTATION

National Highway Traffic Safety Administration

49 CFR Part 57l

[Docket No. NHTSA-1999-3705]

RIN 2127-AG16

Federal Motor Vehicle Safety Standards; Door Locks and Door Retention Components

AGENCY: National Highway Traffic Safety Administration (NHTSA), Department of Transportation.

ACTION: Termination of rulemaking.

SUMMARY: On August 25, 1995, the National Highway Traffic Safety Administration (NHTSA) received a petition for rulemaking from Independent Mobility Systems (IMS) requesting that the requirements of Federal Motor Vehicle Safety Standard (FMVSS) No. 206, “Door Locks and Door Retention Components,” be modified to exclude retention components on doors modified for use with wheelchair ramp systems. NHTSA granted the IMS petition on May 31, 1996. This notice discusses our decision to terminate rulemaking on this petition.

FOR FURTHER INFORMATION CONTACT: The following persons may be contacted at the National Highway Traffic Safety Administration, 400 Seventh Street, SW., Washington, DC 20590:

For Technical Issues: Mr. Maurice Hicks, Office of Crashworthiness Standards, NVS-113, telephone (202) 366-6345, facsimile (202) 366-4329, electronic mail: maurice.hicks@nhtsa.dot.gov.

For Legal Issues: Ms. Rebecca MacPherson, Office of the Chief Counsel (202) 366-2992, facsimile (202) 366-2260, electronic mail: rebecca.macpherson@nhtsa.dot.gov.

SUPPLEMENTARY INFORMATION: You may read the materials placed in the docket for this notice (e.g., the August 25, 1995, IMS petition and subsequent rulemaking notices) by going to the Docket Management, Room PL-401, 400 Seventh Street, SW., Washington, DC 20590.

You may also read the materials on the Internet. To do so, take the following steps:

(1) Go to the Web page of the Department of Transportation DMS (http://dms.dot.gov/).

(2) On that page, click on “search” near the top of the page or scroll down to the words “Search the DMS Web” and click on them.

(3) On the next page (http://dms.dot.gov/search/), scroll down to “Docket Number” and type in the four-digit docket number shown in the title at the beginning of this notice. After typing the docket number, click on “search.”

(4) On the next page (“Docket Summary Information”), which contains docket summary information for the materials in the docket you selected, scroll down to “search results” and click on the desired materials. You may download the materials.

Background

NHTSA received a petition for rulemaking from Independent Mobility System (IMS), Inc., (4100 W. Piedras Street, Farmington, New Mexico 87401) on August 25, 1995, requesting an exemption from the requirements of FMVSS No. 206 for retention components on any door modified for use with a wheelchair ramp system. IMS claimed that exempting wheelchair ramps was necessary to aid in transporting disabled persons. It justified its request on the basis that wheelchair ramps share the same purpose and configuration as wheelchair lifts, which are exempted from the standard. The petitioner stated that, as with lifts, wheelchair ramp platforms are vertically stored within the vehicle's doorway, with the purpose of creating a barrier to prevent occupant ejections.

IMS requested an inclusion of the term “wheelchair ramp” along with “wheelchair lifts” in paragraph S4 of FMVSS 206. IMS asked that paragraph S4 be revised as follows:

S4. (c) Components on any side door leading directly into a compartment that contains one or more seating accommodations shall conform to this standard. However, components on folding doors, roll-up doors, doors that are designed to be easily attached to or removed from motor vehicles manufactured for operation without doors, and any side doors which are equipped with wheelchair lifts or wheelchair ramps and that are linked to an alarm system consisting of either a flashing visible signal located in the driver's compartment or an alarm audible to the driver that is activated when the door is open, need not conform to this standard.

On May 31, 1996, NHTSA issued a Federal Register notice granting the IMS petition (61 FR 27325).

Reason for Termination

Subsequent to granting the IMS petition, the agency further investigated the installation and operational characteristics of various wheelchair lift and ramp designs. From this, it was found that: (1) wheelchair ramps do not adequately barricade the vehicle doorway to prevent occupant ejection without functional door latches, and (2) since 1998, wheelchair ramp designs have progressed such that it is no longer necessary to disable door retention components when installing wheelchair ramp and lift systems. Therefore, NHTSA is terminating the rulemaking that arose out of the August 1995, IMS petition.

Authority: 49 U.S.C. 322, 30111, 30115, 30117, and 30166; delegation of authority at 49 CFR 1.50.

Issued on: January 22, 2004.
Stephen R. Kratzke,
Associate Administrator for Rulemaking.

[FR Doc. 04-1645 Filed 1-27-04; 8:45 am]

BILLING CODE 4910-59-P